DEPARTMENT OF TRANSPORTATION

Federal Railroad Administration

[Docket No. FRA-2020-0027-N-21]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before February 1, 2021.

ADDRESSES: Submit comments and recommendations for the proposed ICR to Ms. Hodan Wells, Information Collection Clearance Officer, at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Federal Railroad Administration Alleged Violation and Inquiry Form.¹

¹ FRA is revising the title of OMB Control Number 2130-0590 (formerly titled “Alleged Violation Reporting Form”).

OMB Control Number: 2130-0590.

Abstract: The FRA Alleged Violation and Inquiry Form is a response to section 307(b) of the Rail Safety Improvement Act of 2008, which requires FRA to “provide a mechanism for the public to submit written reports of potential violations of Federal railroad safety and hazardous materials transportation laws, regulations, and orders to the Federal Railroad Administration.” The FRA Alleged Violation and Inquiry Form allows the public to submit alleged violations, complaints, or inquiries directly to FRA. The form allows FRA to collect information necessary to investigate the alleged violation, complaint, or inquiry, and to follow up with the submitting party. FRA may share the information collected with partnering State departments of transportation and law enforcement agencies.

FRA will use the information collected under the form to identify problem areas and take necessary action to prevent potential accidents of the type indicated by the information submitted from occurring.

FRA's proposed revisions to the form include: (1) Adding several dropdown menus for form elements (e.g., type, title, preferred method of contact, position, category of submission, date, time, city, state, and entity involved) so that users can quickly provide complete contact and incident information while having to hand-enter less information; (2) adding a question requesting the users identify if they are members of the public, a railroad employee, or other; and (3) informing users that they will receive an automated response from FRA after the form is submitted. The revisions are designed to make the existing form easier to use and more understandable, and to simplify the collection of information. The revised form will ensure that users provide the necessary information so that FRA staff can review and respond more quickly. The revised form also will facilitate FRA's ability to maintain the data collected in a more useful and uniform manner, as the new dropdown boxes will assist FRA in receiving more standardized responses.

Type of Request: Revision of a currently approved information collection.

Affected Public: Public.

Form(s): FRA F 6180.151.

Respondent Universe: Public.

Frequency of Submission: On occasion.

Reporting Burden:

CFR section ² | Respondent universe | Total annual responses (forms) | Average time per response (minutes) | Total annual burden hours | Total cost equivalent ³
Alleged Violation and Inquiry Form (Revised Form FRA F 6180.151) | Public | 600 | 7 | 70 | $1,890

Total Estimated Annual Responses: 600.

² The current inventory exhibits a total burden of 48 hours while the total burden of this notice is 70 hours. The increase in the burden hours is due to changes made to the form and the expected increase in annual responses. Also, totals may not add due to rounding.

³ FRA used an hourly rate of $27 for the value of the public's time. FRA obtained this data from the Department of Labor, Bureau of Labor Statistics.

Total Estimated Annual Burden: 70 hours.

Total Estimated Annual Burden Hour Dollar Cost Equivalent: $1,890.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-26423 Filed 11-30-20; 8:45 am]

BILLING CODE 4910-06-P